DEPARTMENT OF TRANSPORTATION

Office of the Secretary

Aviation Proceedings, Agreements Filed the Week Ending May 21, 2004

The following Agreements were filed with the Department of Transportation under the provisions of 49 U.S.C. 412 and 414. Answers may be filed within 21 days after the filing of the application.

Docket Number: OST-2004-17907.

Date Filed: May 17, 2004.

Parties: Members of the International Air Transport Association.

Subject: Mail Vote 373—Resolution 010u, TC23/TC123 Africa-TC3 Special Passenger Amending Resolution from Singapore to Africa r1-r7, Intended effective date: June 1, 2004.

Docket Number: OST-2004-17936.

Date Filed: May 21, 2004.

Parties: Members of the International Air Transport Association.

Subject: Mail Vote 374—Resolution 010v, PTC2 EUR-AFR 0201, TC2 Special Passenger Amending Resolution Libya-Italy r1-r3, Intended effective date: June 1, 2004.

Andrea M. Jenkins,
Program Manager, Docket Operations, Federal Register Liaison.

[FR Doc. 04-12535 Filed 6-2-04; 8:45 am]

BILLING CODE 4910-62-P